LEGAL SERVICES CORPORATION

Sunshine Act Meeting of the Board of Directors, Finance Committee

TIME AND DATE: The Finance Committee of the Legal Services Corporation Board of Directors will meet on June 30, 2001. The meeting will begin at 8:30 a.m. and continue until the Committee concludes its agenda.

LOCATION: Sheraton Harborside Hotel, 250 Market Street, Portsmouth, NH.

STATUS OF MEETING: Open.

MATTERS TO BE CONSIDERED:

1. Approval of agenda.

2. Approval of the minutes of the Committee's meeting of January 26, 2001.

3. Review of the LSC's Consolidated Operating Budget, Expenses and Other Funds Available through April 30, 2001.

4. Review the projected operating expenses for fiscal year 2001 based on operating experience through March 31, 2001 and the required internal budgetary adjustments due to shifting priorities.

5. Consider and act on the President's recommendation for Consolidated Operating Budget reallocations.

6. Report on internal budgetary adjustments by the President and Inspector General.

7. Report on LSC's budgetary needs for fiscal year 2003.

8. Consider and act on other business.

9. Public comment.

CONTACT PERSON FOR INFORMATION: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: June 21, 2001.
Victor M. Fortuno,
Vice President for Legal Affairs, General Counsel & Corporate Secretary.

[FR Doc. 01-16065 Filed 6-22-01; 9:30 am]

BILLING CODE 7050-01-P